DEPARTMENT OF HEALTH AND HUMAN SERVICES

Administration for Community Living

Agency Information Collection Activities; Proposed Collection; Comment Request; Evidence-Based Falls Prevention Program Standardized Data Collection

AGENCY: Administration on Aging (AoA), Administration for Community Living (ACL), HHS.

ACTION: Notice.

SUMMARY: The Administration for Community Living (ACL), Administration on Aging (AoA) is announcing an opportunity for public comment on the proposed collection of certain information. Under the Paperwork Reduction Act of 1995 (the PRA), Federal agencies are required to publish notice in the Federal Register concerning each proposed collection of information, including each proposed extension of an existing collection of information, and to allow 60 days for public comment in response to the notice. This notice solicits comments on the information collection requirements relating to the Evidence-Based Falls Prevention Program.

DATES: Submit written or electronic comments on the collection of information by August 26, 2014.

ADDRESSES: Submit electronic comments on the collection of information to: Michele.boutaugh@acl.gov. Submit written comments on the collection of information to Michele Boutaugh, U.S. Administration on Aging, 61 Forsyth Street SW., Suite 5M69, Atlanta, GA 30303-8909.

FOR FURTHER INFORMATION CONTACT: Michele Boutaugh, 404-987-3411 or Michele.boutaugh@acl.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL/AoA is publishing notice of the proposed collection of information set forth in this document. With respect to the following collection of information, ACL/AoA invites comments on: (1) Whether the proposed collection of information is necessary for the proper performance of ACL/AoA's functions, including whether the information will have practical utility; (2) the accuracy of ACL/AoA's estimate of the burden of the proposed collection of information, including the validity of the methodology and assumptions used; (3) ways to enhance the quality, utility, and clarity of the information to be collected; and (4) ways to minimize the burden of the collection of information on respondents, including through the use of automated collection techniques when appropriate, and other forms of information technology. ACL/AoA proposes to use this set of data collection tools to monitor grantees receiving cooperative agreements in response to the funding opportunity: “PPHF-2014—Evidence-Based Falls Prevention Programs Financed Solely by 2014 Prevention and Public Health Funds (PPHF-2014).” The statutory authority for cooperative agreements under this program announcement is contained in Section 411 of the Older Americans Act of 1965, as amended, and the Patient Protection and Affordable Care Act (ACA), Section 4002, 42 U.S.C. 300u-11 (Prevention and Public Health Fund).

This data collection is necessary for monitoring program operations and outcomes. ACL/AoA proposes to use the following tools: (1) Semi-annual performance reports to monitor grantee progress; (2) a Host Organization Data form to record location of agencies which sponsor programs which will allow mapping of the delivery infrastructure; and (3) a set of tools used to collect information at each program completed by the program leaders (Program Information Cover Sheet and Attendance Log) and a Participant Information Form and Post Program Survey completed by each participant. The Participant Information Form documents participants' demographic and health characteristics, including age, gender, race/ethnicity, types of chronic conditions, disability status, and education level. It also assesses some key outcome variables, which will be re-assessed in the Post Program survey, including falls self-efficacy, falls and injury rates, fear of falling, and interference with social activities. ACL/AoA intends to use an online data entry system for the program and participant survey data.

The proposed Falls Prevention Data Collection Tools can be found at ACL's Web site at: http://www.aoa.gov/AoARoot/AoA_Programs/Tools_Resources/collection_tools.aspx. ACL/AoA estimates the burden of this collection of information as 240 hours for project staff, 405 hours for local agency staff, and 1,000 hours for individuals. Total burden is 1,645 hours per year.

Dated: June 20, 2014.
Kathy Greenlee,
Administrator and Assistant Secretary for Aging.

[FR Doc. 2014-15141 Filed 6-26-14; 8:45 am]

BILLING CODE 4154-01-P